DEPARTMENT OF ENERGY

Federal Energy Regulatory Commission

[Docket No. CP18-525-000]

Notice of Schedule for Environmental Review of the Gulf South Pipeline Company, LP—Willis Lateral Project

On July 13, 2018, Gulf South Pipeline Company, LP (Gulf South) filed an application in Docket No. CP18-525-000 requesting a Certificate of Public Convenience and Necessity pursuant to section 7(c) of the Natural Gas Act to construct and operate certain natural gas pipeline facilities. The proposed project is known as the Willis Lateral Project (Project), and would provide about 200 million cubic feet of natural gas per day to Entergy Texas, Inc.'s Montgomery County Power Station Project near Willis, Texas.

On July 26, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 4, 2019

90-day Federal Authorization Decision Deadline—June 2, 2019

If a schedule change becomes necessary, additional notice will be provided so that the relevant agencies are kept informed of the Project's progress.

Project Description

The Project would consist of the following facilities entirely within the state of Texas:

• Construction of approximately 19 miles of 24-inch-diameter pipeline in Montgomery and San Jacinto Counties;

• addition of a new 15,876 horsepower turbine engine to the existing Goodrich Compressor Station and construction of a new Meter and Regulator (M&R) station at the compressor station in Polk County;

• construction of the Index 129 tie-in and pig ¹ launcher facility in San Jacinto County;

¹ A “pig” is a tool that the pipeline company inserts into and pushes through the pipeline for cleaning the pipeline, conducting internal inspections, or other purposes.

• construction of the new Willis M&R station at the terminus of the Project (including a pig receiver, filter separators with a liquid storage tank, and ancillary equipment) in Montgomery County; and

• construction of a mainline valve facility in Montgomery County.

Background

On August 31, 2018, the Commission issued a Notice of Intent to Prepare an Environmental Assessment for the Proposed Willis Lateral Project, And Request for Comments on Environmental Issues (NOI). The NOI was sent to affected landowners; federal, state, and local government agencies; elected officials; environmental and public interest groups; Native American tribes; other interested parties; and local libraries and newspapers.

In response to the Notice of Application, the Commission received comments from the Texas Parks and Wildlife Department regarding appropriate best management practices for construction and restoration, special status species, surface water, and impacts on vegetation and wildlife. All substantive comments will be addressed in the EA. No comments were received in response to the NOI.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the projects are available from the Commission's

Office of External Affairs at (866) 208-FERC or on the FERC website (www.ferc.gov). Using the “eLibrary” link, select “General Search” from the eLibrary menu, enter the selected date range and “Docket Number” excluding the last three digits (i.e., CP18-525), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 19, 2018.
Kimberly D. Bose,
Secretary.

[FR Doc. 2018-25641 Filed 11-23-18; 8:45 am]

BILLING CODE 6717-01-P